DEPARTMENT OF COMMERCE

National Oceanic and Atmospheric Administration

RIN 0648-XA570

Gulf of Mexico Fishery Management Council; Public Meeting

AGENCY: National Marine Fisheries Service (NMFS), National Oceanic and Atmospheric Administration (NOAA), Commerce.

ACTION: Council to convene a public meeting.

SUMMARY: The Gulf of Mexico Fishery Management Council will convene a meeting of the Outreach and Education Advisory Panel.

DATES: The meeting will convene at 1 p.m. on Tuesday, August 2, 2011 and conclude by 12 p.m., Thursday, August 4, 2011.

ADDRESSES: The meeting will be held at the Gulf of Mexico Fishery Management Council, 2203 North Lois Avenue, Suite 1100, Tampa, FL 33607, telephone: (813) 348-1630.

FOR FURTHER INFORMATION CONTACT: Charlene Ponce, Public Information Officer; Gulf of Mexico Fishery Management Council; telephone: (813) 348-1630.

SUPPLEMENTARY INFORMATION: During this meeting, the Outreach and Education Advisory Panel will elect officers; receive a report on a Communications Audit conducted by University of South Florida students; discuss the possibility of conducting a stakeholder survey; review and finalize a five-year strategic communications plan; discuss reformatting of scoping meetings/public hearings; and discuss potential outreach opportunities for Council members. The panel may also provide recommendations to the Council on any or all of these issues.

Copies of the agenda and other related materials can be obtained by calling (813) 348-1630 or can be downloaded from the Council's ftp site, ftp.gulfcouncil.org.

Although other non-emergency issues not on the agenda may come before the Outreach and Education Advisory Panel for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Council (see ADDRESSES) at least 5 working days prior to the meeting.

Dated: July 11, 2011.
Tracey L. Thompson,
Acting Director, Office of Sustainable Fisheries, National Marine Fisheries Service.

[FR Doc. 2011-17790 Filed 7-14-11; 8:45 am]

BILLING CODE 3510-22-P